DEPARTMENT OF COMMERCE

Census Bureau

Proposed Information Collection; Comment Request; Generic Clearance for Customer Satisfaction Research

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before December 31, 2013.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Rebecca E. Vilky, 301-763-2162, U.S. Census Bureau, HQ-8H172F, Washington, DC 20233-0500 (or via email at rebecca.e.vilky@census.gov).

SUPPLEMENTARY INFORMATION:

I. Abstract

The Census Bureau is requesting an extension of the generic clearance to conduct customer satisfaction research which may be in the form of mailed or electronic questionnaires and/or focus groups, telephone interviews, or web-based interviews.

The Census Bureau has ranked a customer-focused environment as one of its most important strategic planning objectives. The Census Bureau routinely needs to collect and analyze customer feedback about its products and services to better align them to its customers' needs and preferences. Several programs, products, and distribution channels have been designed and/or redesigned based on feedback from its various customer satisfaction research efforts.

Each research design is reviewed for content, utility, and user-friendliness by a variety of appropriate staff (including research design and subject-matter specialists). The concept and design are tested by internal staff and a select sample of respondents to confirm its appropriateness, user-friendliness, and to estimate burden (including hours and cost) of the proposed collection of information. Collection techniques are discussed and included in the research, concept, and design discussion to define the most time-, cost-efficient and accurate collection media.

The clearance operates in the following manner: a block of burden hours is reserved at the beginning of the clearance period. The particular activities that will be conducted under the clearance are not specified in advance because they would not be known at the beginning of the clearance period. The Census Bureau provides detailed information to the Office of Management and Budget (OMB) about the specific activities a minimum of two weeks prior to the planned start date of the collection. OMB provides any comments it may have prior to the start date of the planned activity. At the end of each year, a report is submitted to OMB that summarizes the number of hours used as well as the nature and results of the activities completed under the clearance.

II. Method of Collection

This research may be in the form of mailed or electronic questionnaires and/or focus groups, telephone or web-based interviews.

III. Data

OMB Control Number: 0607-0760.

Form Number: Various.

Type of Review: Regular submission.

Affected Public: Individuals or households, State or local governments, farms, business or other for-profit organizations, federal agencies or employees, and not-for-profit institutions.

Estimated Number of Respondents: 30,000.

Estimated Time per Response: 10 minutes.

Estimated Total Annual Burden Hours: 5,000.

Estimated Total Annual Cost: There is no cost to respondents, except for their time to answer the questions.

Respondents Obligation: Voluntary.

Legal Authority: Executive Order 12862.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 14, 2013.
Glenna Mickelson,
Management Analyst, Office of the Chief Information Officer.

[FR Doc. 2013-27696 Filed 11-19-13; 8:45 am]

BILLING CODE 3510-07-P